DEPARTMENT OF TRANSPORTATION

Surface Transportation Board

[STB Finance Docket No. 35332 (Sub-No. 1)]

Grainbelt Corporation—Trackage Rights Exemption—BNSF Railway Company and Stillwater Central Railroad Company

AGENCY: Surface Transportation Board, DOT.

ACTION: Partial revocation of exemption.

SUMMARY: Under 49 U.S.C. 10502, the Board is partially revoking a class exemption as it pertains to supplemental trackage rights granted to Grainbelt Corporation (GNBC) by BNSF Railway Company (BNSF) and Stillwater Central Railroad Company (SLWC) to permit the trackage rights to expire on October 16, 2019 and November 1, 2019, respectively, subject to the statutorily mandated employee protective conditions set forth in Oregon Short Line R. Co.—Abandonment—Goshen, 360 I.C.C. 91 (1979).

In the notice of exemption, BNSF agreed to grant overhead trackage rights to GNBC, with limited local service rights, over 19.27 miles of trackage between its connection with SLWC at milepost 668.73, east of Long, OK, and milepost 688.00 at Altus, OK. SLWC agreed to grant 4.73 miles of overhead trackage rights to GNBC between milepost 664.0, at or near Snyder Yard, OK, and milepost 668.73, at or near Long. See Grainbelt Corporation—Trackage Rights Exemption—BNSF Railway Company and Stillwater Central Railroad Company, STB Finance Docket No. 35332 (STB served Dec. 17, 2009) and published in the Federal Register on December 21, 2009 (74 FR 67951-2). The transaction was scheduled to be consummated on or after January 1, 2010.

DATES: The partial revocation will be effective on April 11, 2010. Petitions to stay must be filed by March 22, 2010. Petitions for reconsideration must be filed by April 1, 2010.

ADDRESSES: Send an original and 10 copies of all pleadings, referring to STB Finance Docket No. 35332 (Sub-No. 1) to: Surface Transportation Board, 395 E Street, SW., Washington, DC 20423-0001. In addition, a copy of each pleading must be served on Eric M. Hocky, One Commerce Square, 2005 Market Street, Suite 1910, Philadelphia, PA 19103.

FOR FURTHER INFORMATION CONTACT: Joseph H. Dettmar, (202) 245-0395. Assistance for the hearing impaired is available through the Federal Information Relay Service (FIRS) at 1-800-877-8339.

SUPPLEMENTARY INFORMATION: Additional information is contained in the Board's decision. Board decisions and notices are available on our Web site at http://www.stb.dot.gov.

Decided: March 8, 2010.
By the Board, Chairman Elliott, Vice Chairman Mulvey, and Commissioner Nottingham.
Jeffrey Herzig,
Clearance Clerk.

[FR Doc. 2010-5455 Filed 3-11-10; 8:45 am]

BILLING CODE 4915-01-P